DEPARTMENT OF AGRICULTURE

Forest Service

Ochoco National Forest, Lookout Mountain Ranger District; Oregon; Maury Mountains Allotment Management Plan EIS

AGENCY: Forest Service, USDA.

ACTION: Notice of intent to prepare an environmental impact statement.

SUMMARY: The Ochoco National Forest is preparing an environmental impact statement (EIS) to analyze the effects of changing grazing management in six allotments in the Maury Mountains. These six allotments are: Double Cabin, East Maury, West Maury, Klootchman, Sherwood, and Shotgun. The proposed action will alter livestock management to improve stream shade, bank stability, and livestock distribution. These actions are needed to promote the recovery of riparian vegetation which will provide stream shade and contribute to stream bank stability.

DATES: Comments concerning the scope of the analysis must be received by May 1, 2005. The draft environmental impact statement is expected to be completed and available for public comment in August 2005. The final environmental impact statement is expected to be completed in December 2005.

ADDRESSES: Send written comments to Art Currier, District Ranger, Lookout Mountain District, Ochoco National Forest, 3160 NE Third Street, Prineville, Oregon 97754. Alternatively, electronic comments can be sent to comments-pacificnorthwest-ochoco@fs.fed.us. Electronic comments must be submitted as part of the actual e-mail message, or as an attachment in plain text (.txt), Microsoft Word (.doc), rich text format (.rtf), or portable document format (.pdf).

FOR FURTHER INFORMATION CONTACT: Kevin Keown, Project Leader, at the address listed above.

SUPPLEMENTARY INFORMATION:

Purpose and Need for Action

The purpose of this proposal is to reauthorize livestock consistent with Forest Plan standards and guidelines. There is a need to change livestock management to move towards desired conditions for stream shade and bank stability. Based on surveys many of the streams do not meet the desired condition for shade or bank stability. Livestock grazing is one of the factors that contribute to low levels of shade and unstable stream banks.

Proposed Action

The Lookout Mountain Ranger District is proposing to reauthorize livestock grazing on the Double Cabin, East Maury, Klootchman, Sherwood, and Shotgun allotments. The 2-pasture West Maury allotment would be eliminated; the Gibson pasture would be added to the Sherwood allotment and the Hamer pasture would be added to the Klootchman allotment. The reauthorized grazing permits will contain terms and conditions to better distribute livestock and allow recovery of riparian vegetation. The grazing systems would change for most of these allotments. The number of animal unit months (AUMs) would be reduced on the Double Cabin, Klootchman, and Shotgun allotments. The season of use would be adjusted and cattle grazing would not occur before May 1 or be allowed after August 15 each year. This early on/early off schedule would reduce livestock grazing in riparian areas. New structural range improvements including fencing and spring developments would be authorized. Several existing water troughs would be relocated outside of riparian areas. These activities are designed to improve livestock distribution.

Possible Alternatives

At this time, the Forest Service intends to analyze a minimum of three alternatives. The no action alternative will analyze the effects of no grazing. The proposed action will analyze the effects of continued livestock grazing with a modified season of use, change in grazing systems, new structural range improvements, and relocating troughs outside riparian areas. The third alternative being considered at this time would analyze the effects of continued livestock grazing under the same terms and conditions as the existing term grazing permits.

Responsible Official

The Responsible Official is Art Currier, District Ranger, Lookout Mountain Ranger District, at the address listed above.

Nature of Decision To Be Made

The District Ranger will decide whether to reauthorize livestock grazing on the Double Cabin, East Maury, Klootchman, Sherwood, and Shotgun allotments. If livestock grazing is authorized, the District Ranger will decide what terms and conditions are needed to move the existing condition of resources affected by livestock grazing toward the desired condition described in the Ochoco National Forest Land and Resource Management Plan.

Scoping Process

Scoping for this proposal began on March 14, 2005, when letters were mailed to interested and potentially affected persons and organizations. Scoping letters were also sent to state and local government agencies, as well as Tribal Governments.

Comment Requested

This notice of intent continues the scoping process which guides the development of the environmental impact statement. The Forest Service is seeking information and comments from other agencies, organizations, Native Americans, and individuals who may be interested in or affected by the Proposed Action. Comments will be used to determine key issues and develop alternatives to the proposed action. Comments would be most helpful if they are specific to the proposed changes; provide new information specific to the proposed action; identify a different way to meet the purpose and need (e.g., a new alternative); or identify possible mitigation measures.

Early Notice of Importance of Public Participation in Subsequent Environmental Review

A draft environmental impact statement will be prepared for comment. The draft EIS will be filed with the Environmental Protection Agency (EPA) and available for public review by August 2005. The comment period on the draft EIS will begin when the EPA publishes the notice in the Federal Register. The comment period will last for 45 days.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest in identifying and considering issues and concerns on the proposed action, comments on the draft environmental impact statement should be as specific as possible. It is also helpful if comments refer to specific pages or chapters of the draft statement. Comments may also address the adequacy of the draft environmental impact statements or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: April 1, 2005.
Arthur J. Currier,
District Ranger.

[FR Doc. 05-7395 Filed 4-12-05; 8:45 am]

BILLING CODE 3410-11-M